DEPARTMENT OF COMMERCE

National Oceanic and Atmospheric Administration

Re-Initiation of Public Scoping Period on the Review of the Gerry E. Studds Stellwagen Bank National Marine Sanctuary Management Plan; Notice of Availability of the “State of the Sanctuary Report”

AGENCY: National Marine Sanctuary Program (NMSP), National Ocean Service (NOS), National Oceanic and Atmospheric Administration, Department of Commerce (DOC).

SUMMARY: The Stellwagen Bank National Marine Sanctuary (SBNMS) was designated in 1992. Encompassing an 842-square mile area off the coast of Massachusetts, SBNMS protects one of the most biologically diverse areas along the eastern seaboard. It is one of the primary feeding grounds of the highly migratory humpback whale, the part-time home of the endangered northern right whale, and has a highly varied seafloor that supports a wide variety of demersal fish species and invertebrate species.

In accordance with section 304(e) of the National Marine Sanctuaries Act, as amended, (NMSA) (16 U.S.C. 1431 et seq.), the NMSP is re-initiating a review of the SBNMS management plan to evaluate substantive progress toward implementing the goals of the Sanctuary and to make revisions to the plan as necessary to fulfill the purposes and policies of the NMSA. NOAA is now seeking comments on the scope, types, and significance of issues related to the Sanctuary management plan and regulations.

Background

The current management plan for the Sanctuarywas originally published in July 1993. In December 1998 and January 1999, the NMSP initiated a reviewd of this plan by holding scoping meetings to solicit public comments on the status of site management. Scoping participants comments on a variety of issues, which were then characterized by Sanctuary staff and drafted into a “State of the Sanctuary Report” during Winter 2001/2002 (a change in sanctuary adminstration delayed the management plan review process for approximately one year).

The State of the Sanctuary Report, which also contains current background information on the Sanctuary's administrative capacities, its environmental features and human uses, and its ongoing activities, is now being released to familiarize the public with the current status of Sanctuary management and the range of issues identified during the initial scoping period of 1998/1999. The report can be obtained by contacting the Management Plan Review Coordinator at the address below or by downloading it from the SBNMS Web site at <http://stellwagen.nos.noaa.gov>. Interested parties should refer to this report in preparation for submitting comments on the Sanctuary's management plan during this re-initiation of the scoping period.

Comments on the Sanctuary management plan may be submitted in three ways: (1) In writing to SBNMS Management Plan Review Coordinator at the address or fax number below; (2) via e-mail to sbnmsplan@noaa.gov; or (3) in writing or orally at formal public meetings that NOAA will conduct at various locations in the Sanctuary region during the Fall 2002. Details on locations, dates, and times for these meetings will be published in a subsequent Federal Register notice and local newspapers.

DATES: Comments should be received on or before October 18, 2002.

ADDRESSES: For a copy of the State of the Sanctuary Report, contact the Management Plan Review Coordinator, Stellwagen Bank National Marine Sanctuary, 175 Edward Foster Rd. Scituate, MA 02066. Copies can also be downloaded from the SBNMS Web site at <http://stellwagen.nos.noaa.gov>.

To submit comments, you may (1) mail them to the address above; (2) fax them to (781) 545-8036; (3) e-mail them to sbnmsplan@noaa.gov; or (4) attend the upcoming meetings in the Fall 2002 (dates, times, and locations will be announced in a subsequent Federal Register notice and in local newspaper). Comments should be addressed to the attention of the Management Plan Review Coordinator.

FOR FURTHER INFORMATION CONTACT: Katrina VanDine at (781) 545-8026 x203 or via e-mail at sbnmsplan@noaa.gov.

Authority: 16 U.S.C. Section 1431 et seq.

Dated: June 25, 2002.
Jamison S. Hawkins,
Deputy Assistant Administrator for Ocean Services and Coastal Zone Management.

[FR Doc. 02-16651 Filed 7-1-02; 8:45 am]

BILLING CODE 3510-08-M